DEPARTMENT OF LABOR

Employment and Training Administration

Announcement Regarding a Change in Eligibility for Unemployment Insurance (UI) Claimants in Alaska, Mississippi, and Wisconsin in the Emergency Unemployment Compensation 2008 (EUC08) Program

AGENCY: Employment and Training Administration, Labor.

ACTION: Notice.

SUMMARY: The U.S. Department of Labor (Department) produces trigger notices indicating which states qualify for EUC08 benefits, and provides the beginning and ending dates of payable periods for each qualifying state. The trigger notices covering state eligibility for this program can be found at: http://ows.doleta.gov/unemploy/claims_arch.asp.

The following changes have occurred since the publication of the last notice regarding states' EUC08 trigger status:

• Alaska has triggered “off” Tier 3 of EUC08 effective August 24, 2013. Based on data from Alaska for the week ending August 3, 2013, the 13 week insured unemployment rate in Alaska was 3.9 percent, falling below the 4.0 percent trigger rate threshold to remain “on” in Tier 3 of EUC08. The week ending August 24, 2013, was the last week in which EUC08 claimants in Alaska who had exhausted Tier 2, and were otherwise eligible, could establish Tier 3 eligibility.

• Mississippi has triggered “off” Tier 4 of EUC08 effective September 14, 2013. Based on data released by the Bureau of Labor Statistics on August 19, 2013, the three month average, seasonally adjusted total unemployment rate in Mississippi was 8.9 percent, falling below the 9.0 percent trigger rate threshold to remain “on” in Tier 4 of EUC08. The week ending September 14, 2013, was the last week in which EUC08 claimants in Mississippi who have exhausted Tier 3, and are otherwise eligible, could establish Tier 4 eligibility.

• Wisconsin has triggered “off” Tier 3 of EUC08 effective September 14, 2013. Based on data released by the Bureau of Labor Statistics on August 19, 2013, the three month average, seasonally adjusted total unemployment rate in Wisconsin was 6.9 percent, falling below the 7.0 percent trigger rate threshold to remain “on” in Tier 3 of EUC08. The week ending September 14, 2013, was the last week in which EUC08 claimants in Wisconsin who have exhausted Tier 2, and are otherwise eligible, could establish Tier 3 eligibility.

Information for Claimants

The duration of benefits payable in the EUC08 program, and the terms and conditions under which they are payable, are governed by Public Laws 110-252, 110-449, 111-5, 111-92, 111-118, 111-144, 111-157, 111-205, 111-312, 112-96, and 112-240, and the operating instructions issued to the states by the Department.

In the case of a state beginning or concluding a payable period in EUC08, the State Workforce Agency (SWA) will furnish a written notice of any change in potential entitlement to each individual who could establish, or had established, eligibility for benefits (20 CFR 615.13 (c)(1) and (c)(4)). Persons who believe they may be entitled to benefits in the EUC08 program, or who wish to inquire about their rights under this program, should contact their SWA.

FOR FURTHER INFORMATION CONTACT: Tony Sznoluch, U.S. Department of Labor, Employment and Training Administration, Office of Unemployment Insurance, 200 Constitution Avenue NW., Frances Perkins Bldg. Room S-4524, Washington, DC 20210, telephone number (202) 693-3176 (this is not a toll-free number) or by email: sznoluch.anatoli@dol.gov.

Signed in Washington, DC, this 20th day of September, 2013.
Eric M. Seleznow,
Acting Assistant Secretary for Employment and Training.

[FR Doc. 2013-23479 Filed 9-25-13; 8:45 am]

BILLING CODE 4510-FW-P